DEPARTMENT OF LABOR

[Agency Docket Number DOL-2019-0005]

Child Labor, Forced Labor, and Forced or Indentured Child Labor in the Production of Goods in Foreign Countries and Efforts by Certain Foreign Countries To Eliminate the Worst Forms of Child Labor

AGENCY: The Bureau of International Labor Affairs, United States Department of Labor.

ACTION: Notice; request for information and invitation to comment.

SUMMARY: This notice is a request for information and/or comment on three reports issued by the Bureau of International Labor Affairs (ILAB) regarding child labor and forced labor in certain foreign countries. Relevant information submitted by the public will be used by the Department of Labor (DOL) in preparing its ongoing reporting as required under Congressional mandates and a Presidential directive. The 2018 Findings on the Worst Forms of Child Labor report (TDA Report), published on September 27, 2019, discusses efforts of 131 countries and territories to eliminate the worst forms of child labor over the course of 2018 and assesses whether countries made significant, moderate, minimal, or no advancement during that year to address the worst forms of child labor. It also suggests actions foreign countries can take to eliminate the worst forms of child labor through legislation, enforcement, coordination, policies, and social programs. The 2018 edition of the List of Goods Produced by Child Labor or Forced Labor (TVPRA List), published on September 20, 2018, makes available to the public a list of goods from countries that ILAB has reason to believe are produced by child labor or forced labor in violation of international standards. Finally, the List of Products Produced by Forced or Indentured Child Labor (E.O. 13126 List), provides a list of products, identified by country of origin, that DOL, in consultation and cooperation with the Departments of State (DOS) and Homeland Security (DHS), has a reasonable basis to believe might have been mined, produced, or manufactured with forced or indentured child labor. Relevant information submitted by the public will be used by DOL in preparing the next edition of the TDA Report, to be published in 2020; the next edition of the TVPRA List, to be published in 2020; and possible updates to the E.O. 13126 List as needed.

DATES: Submitters of information are requested to provide their submission to DOL's Office of Child Labor, Forced Labor, and Human Trafficking (OCFT) at the email or physical address below by 5 p.m. on January 13, 2020.

ADDRESSES: Information submitted to the Department of Labor should be submitted directly to OCFT, Bureau of International Labor Affairs, U.S. Department of Labor. Comments, identified as “Docket No. DOL-2019-0005,” may be submitted by any of the following methods:

1. Federal eRulemaking Portal: You may submit electronic comments to: http://www.regulations.gov. The portal includes instructions for submitting comments. Parties submitting responses electronically are encouraged not to submit paper copies.

2. Facsimile (fax): OCFT, at 202-693-4830.

3. Mail, Express Delivery, Hand Delivery, and Messenger Service (1 copy): Austin Pedersen and Chanda Uluca, U.S. Department of Labor, OCFT, Bureau of International Labor Affairs, 200 Constitution Avenue NW, Room S-5315, Washington, DC 20210.

Email: Email submissions should be addressed to both Austin Pedersen (Pedersen.Austin.M@dol.gov) and Chanda Uluca (Uluca.Chanda@dol.gov).

FOR FURTHER INFORMATION CONTACT: Austin Pedersen, 202-693-4867 and Chanda Uluca, 202-693-4905. Please see email contact information above.

SUPPLEMENTARY INFORMATION:

I. The Trade and Development Act of 2000 (TDA), Public Law 106-200 (2000), established eligibility criteria for receipt of trade benefits under the Generalized System of Preferences (GSP). The TDA amended the GSP reporting requirements of Section 504 of the Trade Act of 1974, 19 U.S.C. 2464, to require that the President's annual report on the status of internationally recognized worker rights include “findings by the Secretary of Labor with respect to the beneficiary country's implementation of its international commitments to eliminate the worst forms of child labor.”

The TDA Conference Report clarifies this mandate, indicating that the President consider the following when considering whether a country is complying with its obligations to eliminate the worst forms of child labor: “(1) whether the country has adequate laws and regulations proscribing the worst forms of child labor; (2) whether the country has adequate laws and regulations for the implementation and enforcement of such measures; (3) whether the country has established formal institutional mechanisms to investigate and address complaints relating to allegations of the worst forms of child labor; (4) whether social programs exist in the country to prevent the engagement of children in the worst forms of child labor, and to assist with the removal of children engaged in the worst forms of child labor; (5) whether the country has a comprehensive policy for the elimination of the worst forms of child labor; and (6) whether the country is making continual progress toward eliminating the worst forms of child labor.” (H. Conf. Rept. 106-606, May 4, 2000, p. 124).

DOL fulfills this reporting mandate through annual publication of the U.S. Department of Labor's Findings on the Worst Forms of Child Labor report with respect to countries eligible for GSP. To access the 2018 TDA Report, please visit https://www.dol.gov/agencies/ilab/resources/reports/child-labor/findings/.

II. Section 105(b) of the Trafficking Victims Protection Reauthorization Act of 2005 (“TVPRA of 2005”), Public Law 109-164 (2006), 22 U.S.C 7112(b), as amended by Section 133 of the Frederick Douglass Trafficking Victims Prevention and Protection Reauthorization Act of 2018, Public Law 115-425, directs the Secretary of Labor, acting through ILAB, to “develop and make available to the public a list of goods from countries that ILAB has reason to believe are produced by forced labor or child labor in violation of international standards, including, to the extent practicable, goods that are produced with inputs that are produced with forced labor or child labor.” (TVPRA List).

Pursuant to its mandate under the TVPRA of 2005, on December 27, 2007, DOL published in the Federal Register a set of procedural guidelines that ILAB follows in developing the TVPRA List (72 FR 73374). The guidelines set forth the criteria by which information is evaluated; established procedures for public submission of information to be considered by ILAB; and identified the process ILAB follows in maintaining and updating the TVPRA List after its initial publication.

ILAB published its first TVPRA List on September 30, 2009, and issued updates annually from 2010 through 2013. In 2014, ILAB began publishing the TVPRA List every other year, pursuant to changes in the law (see 22 U.S.C. 7112(b)). ILAB can also publish more frequent updates, at its discretion. For a copy of previous editions of the TVPRA List and other related materials, see ILAB's TVPRA web page at https://www.dol.gov/agencies/ilab/reports/child-labor/list-of-goods.

III. Executive Order No. 13126 (E.O. 13126) declared that it was “the policy of the United States Government . . . that the executive agencies shall take appropriate actions to enforce the laws prohibiting the manufacture or importation of goods, wares, articles, and merchandise mined, produced, or manufactured wholly or in part by forced or indentured child labor.” The E.O. 13126 List is intended to ensure that U.S. federal agencies do not procure goods made by forced or indentured child labor. Under procurement regulations, federal contractors who supply products on the E.O. 13126 List must certify that they have made a good faith effort to determine whether forced or indentured child labor was used to produce the items supplied. Pursuant to E.O. 13126, and following public notice and comment, DOL published in the January 18, 2001, Federal Register, a final list of products (“E.O. 13126 List”), identified by country of origin, that the Department, in consultation and cooperation with the Departments of State (DOS) and Treasury [relevant responsibilities are now within the Department of Homeland Security (DHS)], had a reasonable basis to believe might have been mined, produced or manufactured with forced or indentured child labor (66 FR 5353). In addition to the E.O. 13126 List, the Department also published on January 18, 2001, “Procedural Guidelines for Maintenance of the List of Products Requiring Federal Contractor Certification as to Forced or Indentured Child Labor,” which provide for maintaining, reviewing, and, as appropriate, revising the E.O. 13126 List (66 FR 5351).

Pursuant to Sections D through G of the Procedural Guidelines, the E.O. 13126 List may be updated through consideration of submissions by individuals or through ILAB's own initiative.

DOL has officially revised the E.O. 13126 List seven times, most recently on March 25, 2019, each time after public notice and comment as well as consultation with DOS and DHS.

The current E.O. 13126 List, Procedural Guidelines, and related information can be accessed on the internet at https://www.dol.gov/agencies/ilab/reports/child-labor/list-of-products.

Information Requested and Invitation to Comment: Interested parties are invited to comment and provide information regarding these reports. DOL requests comments on or information relevant to updating the findings and suggested government actions for countries reviewed in the TDA Report, assessing each country's individual advancement toward eliminating the worst forms of child labor during the current reporting period compared to previous years, and maintaining and updating the TVPRA and E.O. Lists, including information on goods produced with inputs that are produced with forced labor or child labor. For more information on the types of issues covered in the TDA Report, please see “TDA Guidance Questions” in the appendix of the report. Materials submitted should be confined to the specific topics of the TDA Report, the TVPRA List, and the E.O. 13126 List. DOL will generally consider sources with dates up to five years old (i.e., data not older than January 1, 2015). DOL appreciates the extent to which submissions clearly indicate the time period to which they apply. In the interest of transparency in our reporting, classified information will not be accepted. Where applicable, information submitted should indicate its source or sources, and copies of the source material should be provided. If primary sources are utilized, such as research studies, interviews, direct observations, or other sources of quantitative or qualitative data, details on the research or data-gathering methodology should be provided. Please see the TDA Report, TVPRA List, and the E.O. 13126 List for a complete explanation of relevant terms, definitions, and reporting guidelines employed by DOL. Per our standard procedures, submissions will be published on the ILAB web page at https://www.dol.gov/agencies/ilab/public-submissions-child-labor-forced-labor-reporting.

This notice is a general solicitation of comments from the public.

Authority: 22 U.S.C. 7112(b)(2)(C) and 19 U.S.C. 2464.

Signed at Washington, DC, this 30th day of September, 2019.
Martha E. Newton,
Deputy Undersecretary for International Affairs.

[FR Doc. 2019-21610 Filed 10-4-19; 8:45 am]

BILLING CODE 4510-28-P